NATIONAL AERONAUTICS AND SPACE ADMINISTRATION

[Notice: (17-082)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: All comments should be submitted within 60 calendar days from the date of this publication.

ADDRESSES: All comments should be addressed to Lori Parker, National Aeronautics and Space Administration, 300 E Street SW., Washington, DC 20546-0001.

FOR FURTHER INFORMATION CONTACT: Requests for additional information or copies of the information collection instrument(s) and instructions should be directed to Lori Parker, NASA Clearance Officer, NASA Headquarters, 300 E Street SW., JF0000, Washington, DC 20546, (202) 358-1351.

SUPPLEMENTARY INFORMATION:

I. Abstract

Citizen science and crowdsourcing are tools that engage, educate and empower the public to apply their curiosity and contribute their talents to a wide range of scientific and societal issues. NASA's mission to reach for new heights and reveal the unknown so that what we do and learn will benefit all humankind. NASA uses the vantage point of space to achieve with the science community and our partners a deep scientific understanding of our planet, other planets and solar system bodies, the interplanetary environment, the Sun and its effects on the solar system, and the universe beyond. Citizen science and crowdsourcing can support NASA's mission and purpose by providing new opportunities to explore our solar system and our own home planet like never before, producing critical data that expands our knowledge of the universe, and advancing our ability to provide societal benefit through the synergy of satellite and ground based observations.

II. Methods of Collection

Citizen science and crowdsourcing collections submitted under this generic clearance can be stand-alone projects or the methods may be incorporated into an existing or new project, including, but not limited to, projects in the following typology:

Data gathering projects. These projects may include: (1) Observation, characterization and documentation of natural phenomena or general environmental health observations, opinions, or preferences or (2) surveying participants or screening environmental conditions, including using specialized equipment provided by project leaders to record and submit data, or submitting samples plus descriptors (e.g. of air or water) for testing. Data may be collected using technologies mentioned above, through structured data forms, surveys, focus groups or interviews, submitting photographs or other media, surveys or questionnaires, or providing written observations.

Classification/problem solving projects. Participants' tasks may include: (1) Observation of recorded materials provided by project organizers (images, video, etc.) through structured data submission forms, surveys or questionnaires in an online or computer program, clicking boxes, highlighting parts of text or image, and providing comments and/or annotations; (2) Classification of images or sounds using structured data submission forms or clicking boxes in an online or computer program; (3) Transcribing information, by typing handwritten logs or notes; (4) Performing a function meant to generate human behavior data; or (5) Problem-solving or manipulation of data. Tasks 1-5 may be conducted via structured actions or instructions or through the use of “human-based computational game” or “game with a purpose”, a human-based computational technique in which a computational process performs its function by presenting certain steps to humans in an entertaining way.

III. Data

Title: NASA Citizen Science.

OMB Number: 2700-XXXX.

Type of review: New information collection.

Affected Public: Individuals.

Estimated Number of Respondents: 10,000-50,000.

Estimated Time per Response: 5-10 minutes.

Estimated Total Annual Public Burden Hours: 450,000 to 600,000 hours.

Estimated Total Annual Government Cost: $100,000.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2017-23744 Filed 10-31-17; 8:45 am]

BILLING CODE 7510-13-P